DEPARTMENT OF TRANSPORTATION

Office of the Secretary

National Freight Advisory Committee

ACTION: Announcement of Charter Renewal for the National Freight Advisory Committee.

SUMMARY: This notice announces renewal of National Freight Advisory Committee's charter for a period of 1 year (NFAC), effective May 28, 2015. The NFAC will provide information, advice, and recommendations to the U.S. Secretary of Transportation on matters relating to U.S. freight transportation.

FOR FURTHER INFORMATION CONTACT: Maria Lefevre, Designated Federal Officer at (202) 366-1999 or freight@dot.gov or visit the NFAC Web site at www.dot.gov/nfac.

SUPPLEMENTARY INFORMATION: Pursuant to Section 10(a)(2) of the Federal Advisory Committee Act (Pub. L. 92-463), DOT is giving notice of the charter renewal for the NFAC. The NFAC is established under the authority of the U.S. Department of Transportation, in accordance with the provisions of the Federal Advisory Committee Act (5 U.S.C. App. 2). The NFAC shall continue to undertake information-gathering activities, develop technical advice, and present recommendations to the Secretary to further inform this policy, including but not limited to implementation of the freight provisions of the Moving Ahead for Progress in the 21st Century Act (MAP-21), Public Law 112-141, and other issues of freight transportation policy and programs, including legislative recommendations. The NFAC is composed of up to 50 members representing diverse modes of transportation; regional representation across the Nation; relevant policy areas such as safety, labor, environment; freight customers and providers; and government bodies. The diversity of the Committee ensures the requisite range of views and expertise necessary to fulfill its responsibilities.

Issued: May 21, 2015.
Anthony R. Foxx,
Secretary.

[FR Doc. 2015-12921 Filed 5-27-15; 8:45 am]

BILLING CODE 4910-9X-P